DEPARTMENT OF TRANSPORTATION

Federal Aviation Administration

14 CFR Part 39

[Docket No. FAA-2006-24239; Directorate Identifier 2006-NE-09-AD; Amendment 39-14547; AD 2006-07-20]

RIN 2120-AA64

Airworthiness Directives; Turbomeca Makila 1 A2 Turboshaft Engines

AGENCY: Federal Aviation Administration (FAA), Department of Transportation (DOT).

ACTION: Final rule; request for comments.

SUMMARY: The FAA is adopting a new airworthiness directive (AD) for Turbomeca Makila 1 A2 turboshaft engines. This AD requires upgrading the software version of the digital electronic control. This AD results from Turbomeca determining that Makila 1 A2 turboshaft engines with software version 9 installed in the digital electronic control unit (DECU), under certain conditions, could experience a free turbine overspeed and uncontained failure. We are issuing this AD to prevent overspeed and uncontained failure of the free turbine and damage to the helicopter.

DATES: Effective May 5, 2006.

We must receive any comments on this AD by June 5, 2006.

ADDRESSES: Use one of the following addresses to comment on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact Turbomeca, 40220 Tarnos, France, telephone 33-05-59-74-40-00; fax 33-05-59-74-45-15, for the service information identified in this AD.

FOR FURTHER INFORMATION CONTACT: Christopher Spinney, Aerospace Engineer, Engine Certification Office, FAA, Engine and Propeller Directorate, 12 New England Executive Park, Burlington, MA 01803-5213; telephone (781) 238-7175; fax (781) 238-7199.

SUPPLEMENTARY INFORMATION: The Direction Generale De L'Aviation Civile (DGAC), which is the airworthiness authority for France, recently notified us that an unsafe condition might exist on Turbomeca Makila 1 A2 turboshaft engines. The DGAC advises that if an engine with DECU software version 9 (TU 230C) experiences a loss of power transmission between the engine and the main gearbox at higher power settings, the free turbine could experience overspeed and uncontained failure. Turbomeca has issued software to provide better overspeed protection at the higher power settings.

Bilateral Airworthiness Agreement

This Makila 1 A2 turboshaft engine is manufactured in France and is type certificated for operation in the United States under the provisions of section 21.29 of the Federal Aviation Regulations (14 CFR 21.29) and the applicable bilateral airworthiness agreement. Under this bilateral airworthiness agreement, the DGAC kept the FAA informed of the situation described above. We have examined the findings of the DGAC, reviewed all available information, and determined that AD action is necessary for products of this type design that are certificated for operation in the United States.

FAA's Determination and Requirements of This AD

Although no helicopters that are registered in the United States use these Makila 1 A2 turboshaft engines, the possibility exists that the engines could be used on airplanes that are registered in the United States in the future. The unsafe condition described previously is likely to exist or develop on other Makila 1 A2 turboshaft engines of the same type design. We are issuing this AD to prevent overspeed and uncontained failure of the free turbine, leading to possible bodily injury, and damage to the helicopter. This AD requires upgrading DECU software from version 9 (TU 230C) to version 11 (TU 244C) by November 30, 2008.

FAA's Determination of the Effective Date

Since there are currently no domestic operators of this engine model, notice and opportunity for public comment before issuing this AD are unnecessary. A situation exists that allows the immediate adoption of this regulation.

Comments Invited

This AD is a final rule that involves requirements affecting flight safety and was not preceded by notice and an opportunity for public comment; however, we invite you to send us any written relevant data, views, or arguments regarding this AD. Send your comments to an address listed under ADDRESSES. Include “AD Docket No. FAA-2006-24239; Directorate Identifier 2006-NE-09-AD” in the subject line of your comments. We specifically invite comments on the overall regulatory, economic, environmental, and energy aspects of the rule that might suggest a need to modify it.

We will post all comments we receive, without change, to http://dms.dot.gov, including any personal information you provide. We will also post a report summarizing each substantive verbal contact with FAA personnel concerning this AD. Using the search function of the DMS web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the AD, any comments received, and any final disposition in person at the Docket Management Facility Docket Office between 9 a.m. and 5 p.m., Monday through Friday, except Federal holidays. The Docket Office (telephone (800) 647-5227) is located on the plaza level of the Department of Transportation Nassif Building at the street address stated in ADDRESSES. Comments will be available in the AD docket shortly after the DMS receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES.

List of Subjects in 14 CFR Part 39

Air transportation, Aircraft, Aviation safety, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2006-07-20 Turbomeca: Amendment 39-14547. Docket No. FAA-2006-24239; Directorate Identifier 2006-NE-09-AD.

Effective Date

(a) This airworthiness directive (AD) becomes effective May 5, 2006.

Affected ADs

(b) None.

Applicability

(c) This AD applies to Turbomeca Makila 1 A2 turboshaft engines. These engines are installed on, but not limited to, Eurocopter AS 332 L2 helicopters.

Unsafe Condition

(d) This AD results from Turbomeca determining that Makila 1 A2 turboshaft engines with software version 9 installed in the digital electronic control unit (DECU), under certain conditions, could experience a free turbine overspeed and uncontained failure. We are issuing this AD to prevent overspeed and uncontained failure of the free turbine and damage to the helicopter.

Compliance

(e) You are responsible for having the actions required by this AD performed no later than November 30, 2008, unless the actions have already been done.

(f) Upgrade the software version in the DECU from version 9 (TU 230C) to version 11 (TU 244C). Information on this upgrade can be found in Turbomeca Mandatory Service Bulletin No. 298 73 0244, dated February 2, 2006.

(g) Version 11 (TU 244C) software must not be intermixed on the helicopter with any other DECU software version except version 9 (TU 230C).

Alternative Methods of Compliance

(h) The Manager, Engine Certification Office, has the authority to approve alternative methods of compliance for this AD if requested using the procedures found in 14 CFR 39.19.

Related Information

(i) Direction Generale De L'Aviation Civile airworthiness directive F-2006-029, dated February 1, 2006, also addresses the subject of this AD.

Issued in Burlington, Massachusetts, on March 30, 2006.
Peter A. White,
Acting Manager, Engine and Propeller Directorate, Aircraft Certification Service.

[FR Doc. 06-3253 Filed 4-4-06; 8:45 am]

BILLING CODE 4910-13-P